FEDERAL COMMUNICATIONS COMMISSION

47 CFR Part 27

[WT Docket No. 99-168]

Service Rules for the 746-764 and 776-794 MHz Bands; Correction

AGENCY: Federal Communications Commission.

ACTION: Final rule; correction.

SUMMARY: This document makes clarifications and corrections to the service rules for the 746-764 and 776-794 MHz bands, as published at 65 FR 3139, January 20, 2000, and at 65 FR 17594, April 4, 2000.

DATES: Effective October 10, 2000.

FOR FURTHER INFORMATION CONTACT: Jane Phillips, 202-418-1310.

SUPPLEMENTARY INFORMATION: The Commission, in the final rules of the First Report and Order (65 FR 3139, January 20, 2000), and the Second Report and Order, (65 FR 17594, April 4, 2000) inadvertently failed to make specific reference to the definitional criterion for the Gulf of Mexico Economic Area presently set forth in § 27.6(a)(2).

In rule FR Doc. No. 00-8144 published on April 4, 2000 (65 FR 17594) make the following correction.

§ 27.6 [Corrected]

1. On page 17602, in the third column, in § 27.6(b)(1) correct “paragraph (a)(1)” to read “paragraphs (a)(1) and (a)(2)”.

In rule FR Doc. No. 00-1332 published on January 20, 2000 (65 FR 3139) make the following correction.

2. On page 3145, in the third column, in § 27.6(b)(2), line 7, after the words “See also” add the phrase “paragraphs (a)(1) and (a)(2) of this section and”.

Federal Communications Commission.
William F. Caton,
Deputy Secretary.

[FR Doc. 00-25808 Filed 10-6-00; 8:45 am]

BILLING CODE 6712-01-P